FEDERAL COMMUNICATIONS COMMISSION

47 CFR Part 73

[DA 05-415; MB Docket No. 04-357, RM-11076; MB Docket No. 04-358, RM-11071; MB Docket No. 04-359, RM-11072; MB Docket No. 04-360, RM-11073]

Radio Broadcasting Services; Adams, MA; Ashtabula, OH; Crested Butte, CO; Lawrence Park, PA

AGENCY: Federal Communications Commission.

ACTION: Final rule.

SUMMARY: This document grants four new FM broadcast allotments in Adams, Massachusetts; Ashtabula, Ohio; Crested Butte, Colorado; Lawrence Park, Pennsylvania. The Audio Division, Media Bureau, at the request of Dana Puopolo, allots Channel 255A at Adams, Massachusetts, as the community's local aural transmission service. That allotment also requires a site change for Channel 255A at Rosendale, NY. Channel 255A is allotted to Adams in compliance with the Commission's minimum distance separation requirements with a site restriction of 1.6 kilometers (1 mile) west of the community. The reference coordinates for Channel 255A at Adams are 42-37-12 NL and 73-08-12 WL. The reference coordinates for Channel 255A at Rosendale are 41-54-47 NL and 74-09-00 WL. Since Adams is located within 320 kilometers (200 miles) of the U.S.-Canadian border, concurrence from the Canadian government has been received. See Supplementary Information, infra.

DATES: Effective April 4, 2005.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Notice of Proposed Rule Making, MB Docket Nos. 04-357, 04-358, 04-359, 04-360, adopted February 16, 2005 and released February 18, 2005. The full text of this Commission document is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

The Audio Division at the request of Dana Puopolo, allots Channel 241A at Ashtabula, Ohio, as the community's fourth local aural transmission service. Channel 241A is allotted to Ashtabula in compliance with the Commission's minimum distance separation requirements with a site restriction of 1.5 kilometers (.09 miles) northwest of the community. The reference coordinates for Channel 241A at Ashtabula are 41-52-38 NL and 80-47-49 WL. Since Ashtabula is located within 320 kilometers (200 miles) of the U.S.-Canadian border, concurrence from the Canadian government has been received as a specially negotiated short-spaced allotment to protect Station CFPL-FM, Channel 240C1, London, Ontario, Canada.

The Audio Division at the request of Linda Davidson allots Channel 246C3 at Crested Butte, Colorado, as the community's second local aural transmission service. Channel 246C3 is allotted to Crested Butte in compliance with the Commission's minimum distance separation requirements with a site restriction of 8.0 kilometers (5.0 miles) east of the community. The reference coordinates for Channel 246C3 at Crested Butte are 38-50-42 NL and 106-54-00 WL.

The Audio Division at the request of Dana Puopolo allots Channel 224A at Lawrence Park, Pennsylvania, as the community's first local aural transmission service. Channel 224A is allotted to Lawrence Park in compliance with the Commission's minimum distance separation requirements with a site restriction of 10.6 kilometers (6.6 miles) southwest of the community. The reference coordinates for Channel 224A at Lawrence Park are 42-06-00 NL and 80-07-48 WL. Lawrence Park is located within 320 kilometers (200 miles) of the U.S. Canadian border. Thus, concurrence of the Canadian government has been received for this allotment. It will be a specially negotiated short-spaced allotment limited to 225 watts ERP and 100 meters HAAT to protect Station CJBX-FM, Channel 224B, London, Ontario.

List of Subjects in 47 CFR Part 73

Radio, Radio broadcasting.

PART 73—RADIO BROADCAST SERVICES

1. The authority citation for Part 73 continues to read as follows:

Authority: 47 U.S.C. 154, 303, 334 and 336.

§ 73.202 [Amended]

1. Section 73.202(b), the Table of FM Allotments under Colorado is amended by adding Crested Butte, Channel 246C3.

2. Section 73.202(b), the Table of FM Allotments under Massachusetts, is amended by adding Adams, Channel 224A.

3. Section 73.202(b), the Table of FM Allotments under Ohio, is amended by adding Channel 241A at Ashtabula.

4. Section 73.202(b), the Table of FM allotments under Pennsylvania, is amended by adding Lawrence Park, Channel 224A.

Federal Communications Commission.
John A. Karousos,
Assistant Chief, Audio Division, Media Bureau.

[FR Doc. 05-4345 Filed 3-4-05; 8:45 am]

BILLING CODE 6712-01-P